DEPARTMENT OF AGRICULTURE

Forest Service

Payette National Forest, Idaho, Upper West Fork Weiser Vegetation Project

AGENCY: Forest Service, USDA.

ACTION: Revised notice of intent to prepare an environmental impact statement.

SUMMARY: The USDA Forest Service published a Notice of Intent to prepare an environmental impact statement (EIS) for the West Fork Weiser Watershed Projects in the Federal Register on March 11, 1999 (Vol. 64, No 47, pages 12150-12151). A revised Notice of Intent is being issued due to two major changes (Forest Service Handbook 1909.15 part 21.2):

1. It has been more than six months since filing the original Notice of Intent; and

2. There has been a change in the proposed action and project area. The USDA Forest Service will prepare the Upper West Fork Weiser Vegetation Management Project EIS. The proposed action in the EIS is to manage timber stands to improve their health, species diversity and productivity. Additionally, the proposed action is to obliterate roads and landings to meet the 1988 Payette National Forest Land and Resource management Plan standard for Total Soil Resource Commitment (TSRC). The Payette National Forest invites written comments and suggestions on the scope of the analysis and the issues to address. The agency gives notice of the full National Environmental Policy Act (NEPA) analysis and decision-making process so that interested and affected people know how they may participate and contribute to the final decision.

DATES: Comments need to be received by February 7, 2003.

ADDRESSES: Send written comments to Kimberly A. Brandel, District Ranger, New Meadows Ranger District, Payette National Forest, P.O. Box J, New Meadows, Idaho, 83654.

FOR FURTHER INFORMATION CONTACT: Questions about the proposed action should be directed to Sylvia Clark, Interdisciplinary Team Leader, at the above address, phone (208) 347-0300.

SUPPLEMENTARY INFORMATION: The Upper West Fork Weiser project area is located in the Upper Lost Creek, East fork Lost Creek, West Branch of the Weiser River, and East Branch of the Weiser River sub-watersheds on the New Meadows Ranger District. It is about ten miles north and west of New Meadows, and approximately 22,434 acres in size. The purpose and need for this activity is to (1) Maintain and restore a diverse and sustainable landscape structure, (2) Restore species composition, stand structure, and stand density to more closely mimic historic conditions, and (3) Maintain and restore stand health, growth, and yield.

The proposed action includes a variety of activities to meet the purpose and need. (1) Harvest timber on approximately 845 acres, producing approximately 5.7 million board feet (MMBF), using tractor and skyline logging systems. The silvicultural methods used would be overstory removal, reserve shelterwood/seed tree and some commercial thin. (2) Salvage dead and dying timber killed by fir engraver beetle and other pests, or weakened due to light, water, or nutrient competition. (3) Restore approximately 216 acres of unproductive soil by obliterating roads, skid trails, and/or landings to meet the 1988 Forest Plan Standard for Total Soil Resource Commitment (TSCR). (4) Improve approximately 56 miles of road to provide access for timber activities. (5) Ensure desired species composition by planting and/or natural regeneration of fire-tolerant Douglas-fir, ponderosa pine, and western larch seedlings on 457 acres following timber harvest activities. (6) Treat harvest-generated fuels on approximately 809 acres. Treatments would include machine piling and burning (excavator piling would be used where slopes exceed 35 percent), broadcast burning, and/or yarding tops. (7) Fence regeneration units on slopes less than 35% in cattle allotment. (8) Monitor and treat noxious weeds.

Preliminary issues for this project include effects on water quality, soil productivity, wildlife habitat, recreation, access management, visual quality, and fish habitat.

A range of reasonable alternatives will be considered. The non-action alternative will serve as a baseline for comparison of alternatives. The proposed action will be considered along with additional alternatives developed that meet the purpose and need and address major issues identified during scoping. Alternatives may have different amounts, locations, and types of project activities.

Comments received in response to this notice, including names and addresses of those who comment, will be part of the project record and available for public review.

The Forest Service is seeking information and comments from other Federal, State, and local agencies; Tribal governments; organizations; and individuals who may be interested in or affected by the proposed action. This input will be used in preparation of the draft EIS.

A draft EIS will be prepared for comment. The draft EIS will be filed with the Environmental Protection Agency (EPA) and is anticipated to be available for public review by fall 2003. The comment period on the draft EIS will be 45 days. It is important that those interested in the management of the Payette National forest participate during this initial scoping period and during the 45-day draft EIS comment period.

The Forest Service believes, at this early state, it is important to five reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F. 2d 1016, 1002 (9th Cir. 1986) and Wisconsin Heritages, Inc. v. Harris, 490 F. Supp. 1334, 1338 (E.D. Wis. 1980). Because of these court rulings, it is important that those interested in this proposed action participate by the close of the 45 day comment period so that substantive comments and objections are made available to the forest Service at a time when it can meaningfully consider them and respond to them in the final environmental impact statement.

To assist the Forest Service in identifying and considering issues raised by the proposed action, comments on the draft EIS should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

After the 45-day comment period ends, the Forest Service will analyze comments received and address them in the final EIS. The final EIS is scheduled to be completed in 2004. The Responsible Official is the Payette National Forest Supervisor. The decision will be documented, including the rationale for the decision, in a Record of Decision (ROD). The decision will be subject to review under the Forest Service Appeal Regulations at 36 CFR 215.

Dated: December 20, 2002.
Mark Madrid,
Forest Supervisor.

[FR Doc. 02-32862 Filed 12-27-02; 8:45 am]

BILLING CODE 3410-11-M